DEPARTMENT OF THE INTERIOR

Bureau of Land Management

[LLCOF03000 L13400000.FX0000 16X]

Notice of Intent To Amend the Resource Management Plan for the San Luis Valley Field Office, Colorado, and Prepare an Associated Environmental Assessment

AGENCY: Bureau of Land Management, Interior.

ACTION: Notice.

SUMMARY: In compliance with the National Environmental Policy Act of 1969, as amended (NEPA), and the Federal Land Policy and Management Act of 1976 (FLPMA), as amended, the Bureau of Land Management (BLM) San Luis Valley Field Office, Monte Vista, Colorado, intends to prepare a Resource Management Plan (RMP) amendment with an associated Environmental Assessment (EA) for the San Luis Valley Field Office to analyze de-allocating the Fourmile East Solar Energy Zone (SEZ) and nearby variance land from all solar development. This notice announces the beginning of the scoping process to solicit public comments and identify issues to analyze as a part of the RMP amendment.

DATES: This notice initiates the public scoping process for the RMP amendment with an associated EA. Comments on issues may be submitted in writing until January 26, 2017. The date(s) and location(s) of any scoping meetings will be announced at least 15 days in advance through local news media, newspapers and the BLM Web site at: http://www.blm.gov/co/st/en/fo/slvfo.html. In order to be included in the analysis, all comments must be received prior to the close of the 30-day scoping period or 15 days after the last public meeting, whichever is later. The BLM will provide additional opportunities for public participation as appropriate.

ADDRESSES: You may submit comments on issues and planning criteria related to Fourmile East Solar Energy Zone De-allocation Amendment EA by any of the following methods:

• Web site: http://www.blm.gov/co/st/en/fo/slvfo.html

• Email: SolarMitigation@blm.gov

• Fax: 719-269-8599

• Mail: BLM, San Luis Valley Field Office, 1313 East Highway 160, Monte Vista, CO 81144

Documents pertinent to this proposal may be examined at the San Luis Valley Field Office at the address above.

FOR FURTHER INFORMATION CONTACT: Nancy Keohane, Project Manager—Renewable Energy Team; telephone 719-269-8531; mail BLM Front Range District, 3028 East Main Street, Cañon City, Colorado 81212; or email nkeohane@blm.gov. Contact Ms. Keohane to have your name added to our mailing list. Persons who use a telecommunications device for the deaf (TDD) may call the Federal Relay Service at 1-800-877-8339 to contact the above individual during normal business hours. The Service is available 24 hours a day, seven days a week, to leave a message or question with the above individual. You will receive a reply during normal business hours.

SUPPLEMENTARY INFORMATION: This document provides notice that the BLM San Luis Valley Field Office, Monte Vista, Colorado, intends to prepare an RMP amendment with an associated EA for the San Luis Valley Field Office to consider de-allocating the Fourmile East SEZ. This notice announces the beginning of the scoping process, and seeks public input on issues and planning criteria. The planning area is located in Alamosa County, Colorado, and encompasses approximately 4,829 acres of public land. The purpose of the public scoping process is to determine relevant issues that will influence the scope of the environmental analysis, including alternatives, and guide the planning process. Preliminary issues for the plan amendment area have been identified by BLM personnel; Federal, State, and local agencies; and other stakeholders. These issues include cultural resources, specifically tribal resources and values; big game winter range; National Park and National Scenic Byway view sheds; National Heritage Areas; air quality; and migratory birds. Preliminary planning criteria include: (1) The BLM will continue to manage the San Luis Valley Field Office in accordance with FLPMA and other applicable laws and regulations and all existing public land laws; (2) The BLM will complete the RMP amendment using an interdisciplinary approach to identify alternatives and analyze resource impacts, including cumulative impacts to natural and cultural resources and social and economic environment; (3) The amendment process will follow the FLPMA planning process and the BLM intends to develop an EA consistent with NEPA to inform the planning decision. You may submit comments on issues and planning criteria in writing to the BLM at any public scoping meeting, or you may submit them to the BLM using one of the methods listed in the ADDRESSES section above. To be most helpful, you should submit comments by the close of the 30-day scoping period or within 15 days after the last public meeting, whichever is later. The BLM will use and coordinate the NEPA scoping process to help fulfill the public involvement process under the National Historic Preservation Act (54 U.S.C. 306108) as provided in 36 CFR 800.2(d) (3). The information about historic and cultural resources within the area potentially affected by the proposed action will assist the BLM in identifying and evaluating impacts to such resources.

The BLM will consult with Indian tribes and pueblos on a government-to-government basis in accordance with Executive Order 13175 and other policies. Tribal concerns, including impacts on Indian trust assets and potential impacts to cultural resources, will be given due consideration. Federal, State, and local agencies, along with tribes, pueblos and other stakeholders that may be interested in or affected by the proposed action that the BLM is evaluating are invited to participate in the scoping process and, if eligible, may request or be requested by the BLM to participate in the development of the environmental analysis as a cooperating agency.

Before including your address, phone number, email address, or other personal identifying information in your comment, you should be aware that your entire comment—including your personal identifying information—may be made publicly available at any time. While you can ask us in your comment to withhold your personal identifying information from public review, we cannot guarantee that we will be able to do so. The minutes and list of attendees for each scoping meeting will be available to the public and open for 30 days after the meeting to any participant who wishes to clarify the views he or she expressed. The BLM will evaluate identified issues to be addressed in the plan, and will place them into one of three categories:

1. Issues to be resolved in the plan amendment;

2. Issues to be resolved through policy or administrative action; or

3. Issues beyond the scope of this plan amendment.

The BLM will provide an explanation in the Draft RMP/Draft EA as to why an issue was placed in category two or three. The public is also encouraged to help identify any management questions and concerns that should be addressed in the plan. The BLM will work collaboratively with interested parties to identify the management decisions that are best suited to local, regional, and national needs and concerns.

The BLM will use an interdisciplinary approach to develop the plan amendment in order to consider the variety of resource issues and concerns identified. Specialists with expertise in the following disciplines will be involved in the planning process: archeology and cultural resources, wildlife, physical resources, special area designations, and tribal issues.

Authority: 40 CFR 1501.7 and 43 CFR 1610.2.

Ruth Welch,
BLM Colorado State Director.

[FR Doc. 2016-31223 Filed 12-23-16; 8:45 am]

BILLING CODE 4310-JB-P